NUCLEAR REGULATORY COMMISSION

[Docket No. 50-123; NRC-2009-0139]

Missouri University of Science and Technology Research Reactor; Notice of Issuance of Renewed Facility License No. R-79

The U.S. Nuclear Regulatory Commission (NRC or the Commission) has issued renewed Facility License No. R-79, held by the Board of Curators of the University of Missouri (the licensee), which authorizes continued operation of the Missouri University of Science and Technology Research Reactor (MSTR), located on the Missouri University of Science and Technology (MST) campus at Rolla City, Phelps County, MO. The MSTR is a pool-type, light-water-moderated-and-cooled research reactor licensed to operate at a steady-state thermal power level of 200 kilowatts thermal. Renewed Facility License No. R-79 will expire at midnight 20 years from its date of issuance.

The renewed license complies with the standards and requirements of the Atomic Energy Act of 1954, as amended (the Act), and the Commission's rules and regulations. The Commission has made appropriate findings as required by the Act and the Commission's regulations in Title 10, Chapter 1, “Nuclear Regulatory Commission,” of the Code of Federal Regulations (10 CFR Chapter 1), and sets forth those findings in the renewed license. The NRC afforded an opportunity for hearing in the Notice of Opportunity for Hearing published in the Federal Register on December 31, 2007, at 72 FR 74350. The NRC received no request for a hearing or petition for leave to intervene following this notice.

The NRC staff prepared a safety evaluation report for the renewal of Facility License No. R-79 and concluded, based on that evaluation, that the licensee can continue to operate the facility without endangering the health and safety of the public. The NRC staff also prepared an environmental assessment for license renewal, noticed in the Federal Register on March 30, 2009 (7X FR 14163), and concluded, based on that assessment, that renewal of the license will not have a significant impact on the quality of the human environment.

The NRC maintains the Agencywide Documents Access and Management System (ADAMS), which provides text and image files of the NRC's public documents. For details with respect to the application for renewal, see the licensee's letter dated August 30, 2004 (ADAMS Accession No. ML042820116), as supplemented by letters dated November 16, 2007 (ADAMS Accession No. ML073240523), November 27, 2007 (ADAMS Accession No. ML073320467), December 26, 2007 (ADAMS Accession No. ML080070088), January 17, 2008 (ADAMS Accession No. ML080240307), March 6, 2008 (ADAMS Accession No. ML080930439), June 26, 2008 (ADAMS Accession No. ML081820410), September 16, 2008 (ADAMS Accession No. ML082630565), and November 7, 2008 (ADAMS Accession No. ML083190529). The NRC requested additional information on November 16, 2007 (ADAMS Accession No. ML072340514), May 12, 2008 (ADAMS Accession No. ML081270024), and September 8, 2008 (ADAMS Accession No. ML082460561). For details with respect to the issuance of the renewed facility license, see renewed Facility License No. R-79 (ADAMS Accession No. ML090140511) including the related safety evaluation report dated March 30, 2009, the related technical specifications dated March 24, 2009 (ADAMS Accession No. ML090140520), and the related environmental assessment dated March 20, 2009 (ADAMS Accession No. ML080290156). Documents may be examined, and/or copied for a fee, at the NRC's Public Document Room (PDR), located at One White Flint North, 11555 Rockville Pike (first floor), Rockville, MD. Publicly available records are accessible electronically from the ADAMS Public Electronic Reading Room on the NRC Web site, http://www.nrc.gov/reading-rm/adams.html. Persons who do not have access to ADAMS or who encounter problems in accessing the documents located in ADAMS should contact the NRC PDR reference staff at 1-800-397-4209 or 301-415-4737, or send an e-mail to pdr@nrc.gov.

Dated at Rockville, MD, this 30th day of March, 2009.
For the Nuclear Regulatory Commission.
Kathryn M. Brock,
Chief, Research and Test Reactors Branch A, Division of Policy and Rulemaking, Office of Nuclear Reactor Regulation.

[FR Doc. E9-7648 Filed 4-3-09; 8:45 am]

BILLING CODE 7590-01-P